NUCLEAR REGULATORY COMMISSION

[Docket No. 70-7004-ML; ASLBP No. 05-838-01-ML]

Atomic Safety and Licensing Board; In the Matter of USEC, Inc. (American Centrifuge Plant); Notice (Notice of Hearing)

March 1, 2007.

Before Administrative Judges: Lawrence G. McDade, Chairman; Dr. Peter S. Lam; Dr. Richard E. Wardwel.

This Atomic Safety and Licensing Board hereby gives notice that it will convene an evidentiary session to receive testimony and exhibits in the “mandatory hearing” portion of this proceeding regarding the August 23, 2004 application of USEC, Inc. (USEC) for authorization to construct a facility and to possess and use source, byproduct, and special nuclear material in order to enrich natural uranium to a maximum of ten percent uranium-235 by the gas centrifuge process.¹ USEC proposes to do this at a facility—denominated the American Centrifuge Plant—to be constructed near Piketon, Ohio. This mandatory hearing will concern safety and environmental matters relating to the proposed issuance of the requested license, as more fully described below.

¹ See 69 FR 61411 (Oct. 18, 2004); see also 10 CFR Parts 30, 40, and 70.

A. Matters To Be Considered

As set forth by the Commission in the October 2004 Notice of Hearing ² the matters to be considered are (1) Whether the application and record of the proceeding contain sufficient information and whether the NRC Staff's review of the application has been adequate to support findings to be made by the Director of the Office of Nuclear Materials Safety and Safeguards, with respect to the applicable standards contained in 10 CFR 30.33, 40.32, and 70.23, and (2) whether the review conducted by the NRC Staff pursuant to 10 CFR Part 51 has been adequate. Additionally, in accord with the Commission's October 2004 notice, also at issue in this proceeding is: (3) Whether the requirements of Sections 102(2)(A), (C), and (E) of the National Environmental Policy Act of 1969 and 10 CFR Part 51, Subpart A, have been complied with in this proceeding; (4) whether the final balance among conflicting factors contained in the record of this proceeding indicate that granting the license is the appropriate action to be taken; and (5) whether the license should be issued, denied, or appropriately conditioned to protect the environment.

² 69 FR at 61411-61412.

B. Date, Time, and Location of Mandatory Hearing

The Board will conduct this mandatory hearing at the specified location and time:

1. Date: Tuesday, March 13, 2007.

Time: Beginning at 10 a.m. EST.

Location: ASLBP Hearing Room, Two White Flint North, Third Floor, 11545 Rockville Pike, Rockville, Maryland 20852-2738.

The hearing on these issues will then be continued until Monday, March 19, 2007, and thereafter day-to-day until concluded.

Any members of the public who plan to attend the mandatory hearing are advised that security measures will be employed at the entrance to the hearing facility, including searches of hand-carried items such as briefcases or backpacks. The public is further advised that, in accordance with 10 CFR 2.390, portions of the hearing sessions will be closed to the public because the matters at issue will involve the discussion of protected information.

C. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at www.nrc.gov/reading-rm/adams.html (the Public Electronic Reading Room). Persons who do not have access to ADAMS or who encounter problems in accessing the documents located in ADAMS should contact the NRC PDR reference staff by telephone at (800) 397-4209 or (301) 415-4737, or by e-mail to pdr@nrc.gov.

D. Scheduling Information Updates

Any updated/revised scheduling information regarding the evidentiary hearing can be found on the NRC Web site at www.nrc.gov/public-involve/public-meetings/index.cfm or by calling (800) 368-5642, extension 5036, or (301) 415-5036.

It is so ordered.

Dated in Rockville, Maryland, on March 1, 2007.
For the Atomic Safety And Licensing Board.³
³ Copies of this Notice were sent this date by Internet electronic mail transmission to counsel for (1) USEC; and (2) the NRC Staff.
Lawrence G. McDade,
Chairman, Administrative Judge.

[FR Doc. E7-4103 Filed 3-6-07; 8:45 am]

BILLING CODE 7590-01-P